DEPARTMENT OF THE INTERIOR

Bureau of Reclamation

Colorado River Reservoir Operations: Development of Lower Basin Shortage Guidelines and Coordinated Management Strategies for Lake Powell and Lake Mead Under Low Reservoir Conditions

AGENCY: Bureau of Reclamation, Interior.

ACTION: Notice of intent to prepare an environmental impact statement (EIS) and notice to solicit comments and hold public scoping meetings on the development of Lower Basin shortage guidelines and coordinated management strategies for the operation of Lake Powell and Lake Mead under low reservoir conditions.

SUMMARY: Pursuant to the National Environmental Policy Act (NEPA), the Bureau of Reclamation (Reclamation) proposes to conduct public scoping meetings and prepare an EIS for the development of Lower Colorado River Basin Shortage Guidelines and Coordinated Management Strategies for Operation of Lake Powell and Lake Mead Under Low Reservoir Conditions. The Secretary of the Interior (Secretary) has directed Reclamation to develop additional Colorado River management strategies to address operations of Lake Powell and Lake Mead under low reservoir conditions.

The proposed action is to develop these guidelines and strategies. Through the NEPA process initiated by this Federal Register notice, Reclamation is considering development of: (1) Specific guidelines that will identify those circumstances under which the Department of the Interior (Department) would reduce annual water deliveries from Lake Mead to the Lower Basin States below the 7.5 million acre-feet (maf) Lower Basin apportionment and the manner in which those deliveries would be reduced, and (2) coordinated management strategies for the operation of Lake Powell and Lake Mead.

Alternatives to be analyzed in the EIS have not been developed at this time and will be developed through the NEPA process, including through the upcoming EIS scoping meetings.

DATES AND ADDRESSES: Four public meetings will be held to solicit comments on the scope of specific shortage guidelines and other coordinated management strategies and the issues and alternatives that should be analyzed. Oral and written comments will be accepted at the public meetings to be held at the following locations:

• Tuesday, November 1, 2005—6 p.m. to 8 p.m., Hilton Salt Lake City Center, Topaz Room, 255 South West Temple, Salt Lake City, Utah.

• Wednesday, November 2, 2005—6 p.m. to 8 p.m., Adam's Mark Hotel, Tower Court D, 1550 Court Place, Denver, Colorado.

• Thursday, November 3, 2005—6 p.m. to 8 p.m., Arizona Department of Water Resources, Third Floor, Conference Rooms A&B, 500 North Third Street, Phoenix, Arizona.

• Tuesday, November 8, 2005—6 p.m. to 8 p.m., Henderson Convention Center, Grand Ballroom, 200 South Water Street, Henderson, Nevada.

Written comments on the proposed development of these strategies may be sent by close of business on Wednesday, November 30, 2005, to: Regional Director, Bureau of Reclamation, Lower Colorado Region, Attention: BCOO-1000, PO Box 61470, Boulder City, Nevada 89006-1470, faxogram at (702) 293-8156, or e-mail at strategies@lc.usbr.gov; and/or Regional Director, Bureau of Reclamation, Upper Colorado Region, Attention: UC-402, 125 South State Street, Salt Lake City, Utah 84318-1147, faxogram at (801) 524-3858, or e-mail at strategies@uc.usbr.gov.

FOR FURTHER INFORMATION CONTACT: Terrance J. Fulp, PhD., at (702) 293-8500 or e-mail at strategies@lc.usbr.gov; and/or Randall Peterson at (801) 524-3633 or e-mail at strategies@uc.usbr.gov. If special assistance is required regarding accommodations for attendance at any of the public meetings, please call Nan Yoder at (702) 293-8495, faxogram at (702) 293-8156, or e-mail at nyoder@lc.usbr.gov no less than 5 working days prior to the applicable meeting(s).

SUPPLEMENTARY INFORMATION: In recent years the Colorado River Basin experienced the worst five-year drought in recorded history. Drought in the Basin has impacted system storage, while demands for Colorado River water supplies have continued to increase. In the future, low reservoir conditions may not be limited to drought periods as additional development of Colorado River water occurs. The Colorado River is of strategic importance in the southwestern United States for water supply, hydropower production, recreation, fish and wildlife habitat, and other benefits. In addition, the Republic of Mexico has an allocation to the waters of the Colorado River pursuant to a 1944 treaty with the United States.

In 2001, the Department adopted Interim Surplus Guidelines (66 FR 7772) that are used by the Secretary in making annual determinations regarding “Normal” and “Surplus” conditions for the operation of Lake Mead. Since adoption, these Guidelines have, among other operational and management benefits, allowed the Department and entities in Arizona, California, and Nevada that rely on the Colorado River greater predictability in identifying when Colorado River water in excess of 7.5 maf will be available for use within these three States. In contrast, at this time the Department does not have detailed guidelines in place for annual determinations of releases from Lake Mead of less than 7.5 maf to water users in the three Lower Division States of Arizona, California, and Nevada (often referred to as a “shortage” condition on the lower Colorado River). Therefore, water users who rely on the Colorado River in these States are not currently able to identify particular reservoir conditions under which the Secretary would release less than 7.5 maf for use on an annual basis. Nor are these water users able to identify the amount of any potential future annual reductions in water deliveries.

Over the past year, the seven Colorado River Basin States have been proactively discussing strategies to address the recent period of system-wide drought in the Colorado River Basin. In addition, Reclamation has conducted detailed briefings for stakeholders in the Colorado River Basin and other interested entities regarding future scenarios for Colorado River operations.

Currently, each year, the Secretary establishes an Annual Operating Plan (AOP) for the Colorado River Reservoirs. The AOP describes how Reclamation will manage the reservoirs over a 12-month period, consistent with the Criteria for Coordinated Long-Range Operation of Colorado River Reservoirs Pursuant to the Colorado River Basin Project Act of September 30, 1968 (Long-Range Operating Criteria), the Decree entered by the U.S. Supreme Court in the Arizona v. California litigation, and other provisions of applicable Federal law. Reclamation consults annually with the Colorado River Basin States, Indian tribes, and other interested parties in the development of the AOP. Further, as part of the AOP process, the Secretary makes annual determinations under the Long-Range Operating Criteria regarding the availability of Colorado River water for deliveries to the Lower Division States. To meet the consultation requirements of Federal law, Reclamation also consults with the Colorado River Basin States, Indian tribes, and other interested parties during the five-year periodic reviews of the Long-Range Operating Criteria.

During the mid-year review of the 2005 AOP conducted this past spring, the Department received conflicting recommendations from the Colorado River Basin States regarding operations of Glen Canyon Dam for the remainder of the 2005 water year. In a May 2, 2005, letter to the Governors of the Colorado River Basin States, issued to complete the 2005 AOP mid-year review, the Secretary directed Reclamation to develop additional strategies to improve coordinated management of the reservoirs in the Colorado River system. Pursuant to that direction, Reclamation conducted a public consultation workshop on May 26, 2005, in Henderson, Nevada; issued a Federal Register notice soliciting public comments on June 15, 2005; and conducted public meetings on July 26 and July 28, 2005, in Henderson, Nevada, and Salt Lake City, Utah, respectively. Reclamation received a broad range of public comments and suggestions from these discussions, not all of which can be addressed in this proposed process. In addition, some suggestions may be part of ongoing or future efforts.

In order to assure the continued productive management and use of the Colorado River into the future, Reclamation is now soliciting public comments on the development of Lower Basin shortage guidelines and coordinated management strategies for the operation of Lake Powell and Lake Mead under low reservoir conditions. Reclamation will utilize a public process pursuant to NEPA. By this notice, Reclamation provides notice of its intent to prepare an EIS on this action, and provides notice of its upcoming EIS scoping meetings. Reclamation invites all interested members of the general public, including the seven Colorado River Basin States, Indian tribes, water and power contractors, environmental organizations, representatives of academic and scientific communities, representatives of the recreation industry, and other organizations and agencies to present oral and written comments concerning the format and scope of specific shortage guidelines and coordinated management strategies, and the issues and alternatives to be considered during the development of these proposed guidelines and strategies. Reclamation anticipates publishing a “scoping report” after completion of the public scoping meetings identified in this Federal Register notice.

All comments received will be considered as Reclamation develops formal alternatives under NEPA. Similar to the surplus guidelines referenced above, it is likely that these shortage guidelines will be interim in nature. It is the Department's intent that these guidelines and coordinated management strategies will provide guidance to the Secretary's AOP decisions, and provide more predictability to water users and the public throughout the Colorado River Basin, particularly those in the Lower Division States. The Department does not intend to evaluate the decommissioning of Glen Canyon Dam.

Public Disclosure

Written comments, including names and home addresses of respondents, will be made available for public review. Individual respondents may request that their home address be withheld from public disclosure, which will be honored to the extent allowable by law. There may be circumstances in which respondents' identity may also be withheld from public disclosure, as allowable by law. If you wish to have your name and/or address withheld, you must state this prominently at the beginning of your comment. All submissions from organizations, business, and from individuals identifying themselves as representatives or officials of organizations or businesses, will be made available for public disclosure in their entirety.

Dated: September 22, 2005.
Rick L. Gold,
Regional Director—UC Region, Bureau of Reclamation.
Dated: September 22, 2005.
Jayne Harkins,
Deputy Regional Director—LC Region, Bureau of Reclamation.

[FR Doc. 05-19607 Filed 9-29-05; 8:45 am]

BILLING CODE 4310-MN-P